NUCLEAR REGULATORY COMMISSION

[NUREG-1671]

Standard Review Plan for the Gaseous Diffusion Plants; Notice of Availability

AGENCY: Nuclear Regulatory Commission.

ACTION: Notice of availability.

SUMMARY: Because of significant changes to current draft U.S. Nuclear Regulatory Commission (NRC) standard review plan for the recertification of the gaseous diffusion plants, NRC is offering the opportunity for public review and comment on the addition of an introduction to the draft report NUREG-1671 retitled, “Standard Review Plan for the Gaseous Diffusion Plants.”

DATES: Submit comments to the address listed below by May 25, 2001. Comments received after this date will be considered if it is practical to do so, but the Commission is able to ensure consideration only for comments received on or before this date.

ADDRESSES: Mail written comments to: Chief, Rules and Directives Branch, U.S. Nuclear Regulatory Commission, Washington, DC 20555-0001. Hand deliver comments to the U.S. Nuclear Regulatory Commission's headquarters building at One White Flint North, 11545 Rockville Pike, Rockville, Maryland 20852, between 7:45 a.m. and 4:15 p.m. during Federal workdays.

Draft NUREG-1671, without the new Introduction, is available for inspection and copying for a fee at the NRC public document room (PDR), that is currently located at NRC's headquarters building, One White Flint North, 11555 Rockville Pike, Rockville, Maryland 20852. A copy of the draft Introduction may be obtained from the NRC's Internet website, http://www.nrc.gov/NRC/NUREGS/SR1671/REVISED/index.html or from the Agency's document management system, called ADAMS, http://www.nrc.gov/NRC/ADAMS/index.html.

FOR FURTHER INFORMATION CONTACT: Bill Gleaves, Division of Fuel Cycle Safety and Safeguards, Office of Nuclear Material Safety and Safeguards, U.S. Nuclear Regulatory Commission, Washington, DC 20555. Telephone: (301) 415-5848.

Dated at Rockville, Maryland, this 8th day of March 2001.
For the Nuclear Regulatory Commission.
William C. Gleaves,
Mechanical Systems Engineer, Special Projects Branch, Division of Fuel Cycle Safety and Safeguards, Office of Nuclear Material Safety and Safeguards.

[FR Doc. 01-10093 Filed 4-23-01; 8:45 am]

BILLING CODE 7590-01-P